DEPARTMENT OF THE INTERIOR

Bureau of Ocean Energy Management

Outer Continental Shelf (OCS), Gulf of Mexico (GOM), Oil and Gas Lease Sales, Western Planning Area (WPA) Lease Sales 238, 246, and 248 MMAA104000

AGENCY: Bureau of Ocean Energy Management (BOEM), Interior.

ACTION: Notice of Availability (NOA) of the Final Supplemental Environmental Impact Statement (EIS).

SUMMARY: Consistent with the regulations implementing the National Environmental Policy Act, as amended (42 U.S.C. 4321 et seq.) (NEPA), BOEM has prepared a Final Supplemental EIS for proposed OCS oil and gas Lease Sales 238, 246, and 248, which are tentatively scheduled to be held in August 2014, 2015, and 2016, respectively, in the WPA offshore the States of Texas and Louisiana. This Final Supplemental EIS updates the baseline conditions and potential environmental effects of oil and natural gas leasing, exploration, development, and production in the WPA since publication of Gulf of Mexico OCS Oil and Gas Lease Sales: 2012-2017; Western Planning Area Lease Sales 229, 233, 238, 246, and 248; Central Planning Area Lease Sales 227, 231, 235, 241, and 247, Final Environmental Impact Statement (OCS EIS/EA BOEM 2012-019) (2012-2017 WPA/CPA Multisale EIS) and Gulf of Mexico OCS Oil and Gas Lease Sales: 2013-2014; Western Planning Area Lease Sale 233; Central Planning Area Lease Sale 231, Final Supplemental Environmental Impact Statement (OCS EIS/EA BOEM 2013-0118) (WPA 233/CPA 231 Supplemental EIS). The 2012-2017 WPA/CPA Multisale EIS was completed in July 2012. The WPA 233/CPA 231 Supplemental EIS was completed in April 2013.

SUPPLEMENTARY INFORMATION: BOEM developed this Final Supplemental EIS for proposed WPA Lease Sales 238, 246, and 248 to consider new information made available since completion of the 2012-2017 WPA/CPA Multisale EIS and WPA 233/CPA 231 Supplemental EIS. This Final Supplemental EIS provides updates on the baseline conditions and potential environmental effects of oil and natural gas leasing, exploration, development, and production in the WPA. BOEM conducted an extensive search for new information, including but not limited to, information related to the Deepwater Horizon explosion, oil spill, and response. BOEM's search included reviewing scientific journals and available scientific data as well as interviews of personnel from academic institutions and Federal, State, and local agencies. BOEM has examined the potential impacts of routine activities and accidental events, including a possible low-probability catastrophic event, as well as the proposed lease sales' incremental contribution to the cumulative impacts on environmental and socioeconomic resources. The oil and gas resource estimates and scenario information for this Final Supplemental EIS are presented as a range that would encompass the resources and activities estimated for a proposed WPA lease sale.

Final Supplemental EIS Availability: You may download or view the Final Supplemental EIS on BOEM's Internet Web site at http://www.boem.gov/Environmental-Stewardship/Environmental-Assessment//.aspx. BOEM has printed and will be distributing a limited number of paper copies. In keeping with the Department of the Interior's mission of the protection of natural resources and to limit costs while ensuring availability of the document to the public, BOEM will primarily distribute digital copies of the Final Supplemental EIS on compact discs. However, if you require a paper copy, BOEM will provide one upon request if copies are still available. You may obtain a copy of the Final Supplemental EIS from the Bureau of Ocean Energy Management, Gulf of Mexico OCS Region, Public Information Office (GM 335A), 1201 Elmwood Park Boulevard, Room 250, New Orleans, Louisiana 70123-2394 (1-800-200-GULF).

Several libraries along the Gulf Coast have been sent copies of the Final Supplemental EIS. To find out which libraries have copies of the Final Supplemental EIS for review, you may contact BOEM's Public Information Office or visit BOEM's Internet Web site at http://www.boem.gov/Environmental-Stewardship/Environmental-Assessment/NEPA/nepaprocess.aspx.

FOR FURTHER INFORMATION CONTACT: For more information on the Final Supplemental EIS, you may contact Mr. Gary D. Goeke, Bureau of Ocean Energy Management, Gulf of Mexico OCS Region, Office of Environment (GM 623E), 1201 Elmwood Park Boulevard, New Orleans, Louisiana 70123-2394 or by email at wpa238@boem.gov. You may also contact Mr. Goeke by telephone at (504) 736-3233.

Authority: This NOA is published pursuant to the regulations (40 CFR 1503) implementing the provisions of NEPA, as amended (42 U.S.C. 4321 et seq. [1988]).

Dated: March 13, 2014.
Tommy P. Beaudreau,
Director, Bureau of Ocean Energy Management.

[FR Doc. 2014-06288 Filed 3-21-14; 8:45 am]

BILLING CODE 4310-MR-P